DEPARTMENT OF HOMELAND SECURITY

Coast Guard

33 CFR Part 100

[Docket No. USCG-2025-1048]

Special Local Regulations; Marine Events Within the Southeast Coast Guard District

AGENCY: Coast Guard, DHS.

ACTION: Notification of enforcement of regulation.

SUMMARY: The Coast Guard will enforce a special local regulation for the San Juan Harbor Christmas Boat Parade on December 13, 2025, to provide for the safety of life on navigable waterways during this event. Our regulation for marine events within the Southeast Coast Guard District identifies the regulated area for this event in San Juan, PR. During the enforcement period, no person or vessel may enter, transit through, anchor in, or remain within the regulated area unless authorized by the Coast Guard Patrol Commander or a designated representative.

DATES: The regulations in 33 CFR part 100.701 will be enforced for the location identified in table 1 to § 100.701, paragraph (a), Item 11, from 6 p.m. through 8 p.m. on December 13, 2025.

FOR FURTHER INFORMATION CONTACT: If you have questions about this notification of enforcement, call or email Lieutenant Commander Rachel E. Thomas, Sector San Juan Waterways Management Division, U.S. Coast Guard; telephone (571) 613-1417, email Lieutenant Commander Rachel.E.Thomas@uscg.mil.

SUPPLEMENTARY INFORMATION: The Coast Guard will enforce special local regulations in 33 CFR 100.701 for the San Juan Harbor Christmas Boat Parade regulated area identified in table 1 to § 100.701, paragraph (a), Item 11, from 6 p.m. until 8 p.m. on December 13, 2025. This action is being taken to provide for the safety of life on navigable waterways during this event. Our regulation for recurring marine events, Seventh Coast Guard District, § 100.701, paragraph (a), Item 11, specifies the location of the regulated area for the San Juan Harbor Christmas Boat Parade, which encompasses portions of the San Juan Harbor located in San Juan, PR. Under the provisions of 33 CFR 100.701(c) all persons and vessels are prohibited from entering the regulated area, except those persons and vessels participating in the event, unless they receive permission to do so from the Coast Guard Patrol Commander, or designated representative.

Spectator vessels may safely transit outside the regulated area, but may not anchor, block, loiter in, impede the transit of festival participants or official patrol vessels or enter the regulated area without approval from the Coast Guard Patrol Commander or a designated representative. The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Luis J. Rodríguez,
Captain, U.S. Coast Guard, Captain of the Port San Juan.

[FR Doc. 2025-22196 Filed 12-5-25; 8:45 am]

BILLING CODE 9110-04-P